DEPARTMENT OF COMMERCE

National Oceanic and Atmospheric Administration

[I.D. 102604B]

North Pacific Fishery Management Council; Public Meetings

AGENCY: National Marine Fisheries Service (NMFS), National Oceanic and Atmospheric Administration (NOAA), Commerce.

ACTION: Notice of a public meeting.

SUMMARY: The North Pacific Fishery Management Council's (Council) Non-Target Species Committee will meet in Seattle, WA.

DATES: The meeting will be held on November 15, 2004, from 9 a.m. to 12 noon (PST).

ADDRESSES: The meeting will be held at the Alaska Fishery Science Center, 7600 Sand Point Way North East, Building 4, Room 2143, Seattle, WA 98115.

Council address: North Pacific Fishery Management Council, 605 W. 4th Avenue, Suite 306, Anchorage, AK 99501-2252.

FOR FURTHER INFORMATION CONTACT: Jane DiCosimo, Council staff, telephone: 907-271-2809.

SUPPLEMENTARY INFORMATION: The Committee will review proposed revisions to National Standard Guidelines and definitions of a “fishery,” Council guidance on Committee mission (non-target vs both target and non-target), Council problem statement for framework and ad hoc group suite of alternatives, draft committee problem statements for rockfish and suite of alternatives and a discussion paper of a alternative management strategies for rockfish. The Committee will develop recommendations to the Council on how to best manage non-target species.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

The meeting is physically accessible to people with disabilities. Requests for sign language interpretation or other auxiliary aids should be directed to Gail Bendixen at 907-271-2809 at least 7 working days prior to the meeting date.

Dated: October 27, 2004.
Alan D. Risenhoover,
Acting Director, Office of Sustainable Fisheries, National Marine Fisheries Service.

[FR Doc. E4-2933 Filed 10-29-04; 8:45 am]

BILLING CODE 3510-22-S